ENVIRONMENTAL PROTECTION AGENCY

40 CFR Part 228

Criteria for the Management of Disposal Sites for Ocean Dumping

CFR Correction

In Title 40 of the Code of Federal Regulations, parts 190-259, revised as of July 1, 1999, page 229, § 228.15 is corrected in paragraph (j)(11)(i) by removing “93°′dprime;W.” and adding in its place “93°49′23″W.”.

[FR Doc. 00-55507 Filed 5-11-00; 8:45 am]

BILLING CODE 1505-01-D